DEPARTMENT OF ENERGY

Western Area Power Administration

Relocation of Transmission Lines for the U.S. 93 Boulder City Bypass Project, Boulder County, NV, Record of Decision (DOE/EIS-0490)

AGENCY: Western Area Power Administration, DOE.

ACTION: Record of Decision.

SUMMARY: The Federal Highway Administration (FHWA) prepared an Environmental Impact Statement (EIS) for a proposal to improve the United States Highway 93 (U.S. 93) corridor through Henderson and Boulder City, Nevada, from the Foothills Road grade separation on U.S. 93/95 in Henderson to the western end of the Hoover Dam Bypass project near the Hacienda Hotel and Casino. Western Area Power Administration (Western), an agency within the Department of Energy (DOE), needs to modify its transmission system and facilities to accommodate the construction of the Boulder City Bypass Project (Project). Western was a cooperating agency for the EIS. Western will ensure that its responsibilities under the National Historic Preservation Act (NHPA) and the Endangered Species Act (ESA) are met before the modifications are implemented.

FOR FURTHER INFORMATION CONTACT: For further information regarding Western's role in the project, contact Ms. Linda Hughes, Environmental Division Manager, Desert Southwest Customer Service Region, Western Area Power Administration, P.O. Box 6457, Phoenix, AZ 85005, telephone (602) 605-2524, email hughes@wapa.gov. Copies of the EIS are available on the following Web site at: http://www.nevadadot.com/Micro-Sites/BoulderCityBypass/Final_Environmental_Impact_Statement.aspx. For general information on DOE's National Environmental Policy Act of 1969 (NEPA) review process, please contact Carol M. Borgstrom, Director, Office of NEPA Policy and Compliance, GC-54, U.S. Department of Energy, Washington, DC 20585, telephone (202) 586-4600 or (800) 472-2756.

SUPPLEMENTARY INFORMATION: FHWA was the lead agency for the Project EIS (FHWA-NV-EIS-00-02-F; April 2005; 76 FR 34073). Western was a cooperating agency for the Project EIS. After an independent review of the Final Project EIS, Western concluded that its needs are satisfied and, with this notice, is adopting the Project EIS for its participation in the Project. The FHWA signed its Record of Decision (ROD), on the Project on December 8, 2005, and selected Alternative D as its preferred alternative. Subsequent to publication of the ROD, FHWA, in conjunction with the Nevada Department of Transportation (NDOT), broke the Project into two phases. Phase One incorporates the Project's eastern edge, from the Foothills Grade Separation to the intersection with U.S. 95. Phase Two includes the area from U.S. 95 to the connection with U.S. 93.

The Project EIS addresses the effects of the Project, including modification of Western's transmission system. Modifications to Western's transmission system will occur in two phases. The modifications for Phase One include relocating and rebuilding approximately one mile of the Henderson-Mead 230-kilovolt (kV) transmission lines. Western's action will consist of removing existing structures, conductors, and overhead ground wires, and installing new structures, conductors, overhead ground wire, insulators, and transmission line hardware. The relocated and rebuilt line will be within 500 feet of the existing line. Phase One is expected to be complete by Spring 2013. The modifications for Phase Two include relocation of various structures to accommodate the Project, similar to Phase One. In 2009, FHWA, in conjunction with the Nevada Department of Transportation (NDOT), completed a re-evaluation of the Final Project EIS and determined that there are neither substantial changes to the project nor significant new information to warrant a new EIS or supplemental analysis and that the current environmental document and decision document remain valid.

The EIS impact analysis and the re-evaluation study concluded that, with mitigation measures, most impacts from the Project would not be significant. There would be significant unavoidable visual impacts to several historic properties and Traditional Cultural Properties (TCPs). Other historic sites or features would be affected or potentially affected by the Project, including some elements of the transmission system not owned by Western. The FHWA and NDOT consulted with the Nevada State Historic Preservation Office, the Advisory Council on Historic Preservation and Native American tribes. A Programmatic Agreement (PA) and treatment plan was developed for avoidance, minimization, and mitigation of adverse effects to historical and cultural properties. Western is a signatory to the PA. The FHWA is required to complete historic documentation of facilities affected by the Project as described in the PA. Western will ensure that its responsibilities under the NHPA, as outlined in the Programmatic Agreement, are met before its action is implemented.

FHWA filed a Biological Assessment with the U.S Fish and Wildlife Service for Phase One of the Project on July 17, 2012. Consultation with the U.S. Fish and Wildlife Service for Phase Two will be completed prior to ground disturbance for that part of the Project. Western will comply with the terms and conditions identified in the FHWA Biological Opinion for reducing impacts to these species as it applies to Western's action. Western's action does not affect floodplains or wetlands.

Alternatives Considered

FHWA examined several road alignment alternatives, ultimately selecting Alternative D as their preferred alternative. Western had to wait for FHWA to decide on its course of action before determining which transmission structures and lines would be affected and need to be modified. The no action alternative assumed that the Project would not be constructed and no transmission structures or lines would need to be modified. FHWA did not select the no action alternative since it did not meet their purpose and need.

Mitigation Measures

Western will adhere to its Construction Standard 13 “Environmental Quality Protection.” Long-term operations of the transmission line will follow Western's standard operating procedures and will not be affected by this action. In addition to Construction Standard 13, the following measures apply to the modifications that will be made to Western's transmission system:

1. Protection of the desert tortoise through compliance with the FHWA Biological Opinion.

2. Protection of cultural and historical resources as signatories to the Programmatic Agreement.

Decision

Western's decision is to modify its transmission system as described above in support of FHWA's decision to construct Alternative D.¹ This ROD was prepared following the requirements of the Council on Environmental Quality Regulations for Implementing NEPA (40 CFR parts 1500-1508) and DOE's Procedures for Implementing NEPA (10 CFR part 1021).

¹ On November 16, 2011, DOE's Acting General Counsel delegated to Western's Administrator all the authorities of the General Counsel respecting environmental impact statements.

Dated: September 19, 2012.
Anita J. Decker,
Acting Administrator.

[FR Doc. 2012-25783 Filed 10-18-12; 8:45 am]

BILLING CODE 6450-01-P